CORPORATION FOR NATIONAL AND COMMUNITY SERVICE

Availability of Funds for Grants to Support New Senior Companion and Foster Grandparent Projects

AGENCY: Corporation for National and Community Service.

ACTION: Notice of availability of funds.

SUMMARY: The Corporation for National and Community Service (hereinafter, the “Corporation”) announces the availability of funding for grants to support three new Senior Companion projects in geographic areas that do not fall within approved service areas of current Corporation-funded Senior Companion projects and three new Foster Grandparent projects in geographic areas that do not fall within approved service areas of current Corporation-funded Foster Grandparent projects. The purpose of the Senior Companion Program (SCP) is to provide opportunities for income eligible individuals 60 years of age and over to serve adults with special needs. The purpose of the Foster Grandparent Program (FGP) is to provide opportunities for income eligible individuals 60 years of age and over to serve children and youth with special or exceptional needs on a person to person basis.

On November 8, 2001, President Bush announced that the Corporation will support homeland security in the coming year, and the Corporation encourages applicants for these grants to include appropriate activities for Foster Grandparents and Senior Companions that help support homeland security. The Corporation defines homeland security to include activities that support public safety, public health, and disaster preparedness and relief.

Individual Senior Companion grant awards will be approximately $211,825 to cover the costs of 48 Senior Companion service years for twelve months. Individual Foster Grandparent grant awards will be approximately $192,265 to cover the costs of 44 Foster Grandparent service years for twelve months.

DATES: Applications must arrive at the Corporation for National and Community Service by 5:00 p.m. (Eastern Daylight Time), May 31, 2002. The Corporation will not accept applications that are submitted via facsimile. Due to delays in delivery of regular U.S.P.S. mail to government offices, there is no guarantee that your application will arrive in time to be considered. We suggest that you use U.S.P.S. priority mail or a commercial overnight delivery service. We anticipate announcing selections under this Notice no later than June 28, 2002.

ADDRESSES: One unbound, single-sided original and two copies of the application must be submitted to the following address: Corporation for National and Community Service, National Senior Service Corps, 1201 New York Avenue, NW, Washington, DC 20525, Attn: Mr. John Keller. All applicants are encouraged voluntarily to submit two additional copies of the application to expedite the review process. Applications must arrive at the Corporation for National and Community Service by 5:00 p.m. (Eastern Daylight Time), May 31, 2002. The Corporation will not accept applications that are submitted via facsimile. Due to delays in delivery of regular U.S.P.S. mail to government offices, there is no guarantee that your application will arrive in time to be considered. We suggest that you use U.S.P.S. priority mail or a commercial overnight delivery service.

Applications: Application guidelines and instructions can be obtained by contacting the appropriate Corporation State Office. Information on how to contact state offices is located on our Web site: www.nationalservice.org. Click on “Contact Us” at the bottom of the page. Applicants are urged to pay close attention to these application materials. They contain a wide variety of relevant requirements, including non-federal contributions, the amounts of stipends volunteers may receive, and the requirements for organizations proposing to operate a project.

FOR FURTHER INFORMATION CONTACT: Contact John Keller at 202-606-5000 ext. 285. TDD (202) 565-2799. This Notice is available in an alternative format for people with visual impairments.

SUPPLEMENTARY INFORMATION:

Background

The Corporation is a federal government corporation that encourages Americans of all ages and backgrounds to engage in community-based service to meet the nation's educational, public safety, environmental and other human needs. In doing so, the Corporation fosters civic responsibility, strengthens the ties that bind us together as a people, and provides educational opportunity for those who make a substantial commitment to service. This year, the Corporation will help support more than 1.5 million Americans who perform substantial service in communities across the country.

In the State of the Union address, the President announced that the USA Freedom Corps will build on the great American ethic of service. The USA Freedom Corps will promote a culture of responsibility, service, and citizenship. It will work with key service agencies in government and the nonprofit sector to provide incentives and new opportunities to serve at home and abroad. The USA Freedom Corps will draw from Americans of all ages and of every background. The Corporation for National and Community Service and its programs—National Senior Service Corps, AmeriCorps, and Learn and Serve America—are part of the efforts under the USA Freedom Corps. The programs of the National Senior Service Corps include the Senior Companion and Foster Grandparent Programs as well as the Retired and Senior Volunteer Program (RSVP).

Program Period of Performance

The program period for all grants is twelve months. Future funding is contingent on performance and the availability of appropriations.

Application Instructions

To be considered for funding, applications must meet all of the criteria and requirements contained in this Notice. The Grant Application, CNCS Form 424-NSSC, and supplemental guidelines and instructions, can be obtained by contacting the appropriate Corporation State Office. The Corporation State Office can also advise applicants concerning the service areas covered by existing projects. Information on how to contact state offices is located on our Web site: www.nationalservice.org. Click on “Contact Us” at the bottom of the page. Applicants are urged to pay close attention to these application materials. They contain a wide variety of relevant requirements, including non-federal contributions, the amounts of stipends volunteers may receive, and the requirements for organizations proposing to operate a project. Applicants must submit all forms and attachments specified in the Grant Application and supplemental guidelines and instructions.

Selection Criteria

The Corporation will initially determine: (1) Whether the organization is eligible; (2) whether the application contains all the required information, and (3) whether the geographic location of the proposed project is an approved geographic service area that does not currently have a project funded by the Corporation under the respective program (FGP or SCP) for which they are applying.

After this initial screening, the Corporation will select and evaluate applications based on the following criteria: Program Design (60%) Organizational Capacity (25%), and Budget/Cost-Effectiveness (15%). Details on the application criteria will be available in the application package available from Corporation state offices. The Corporation will take into consideration the following factors after the proposals are assessed:

• Geographic location: The Corporation will assure a mix of urban and rural sites.

• Diversity: The Corporation will select organizations whose local projects have the capacity to recruit ethnic and racial minorities, males, and persons with disabilities.

Program Authority

Corporation Authority to make these grants is codified in 42 U.S.C. 4950 et seq.

Additional Information Concerning the Specific Funding Available

Senior Companion Projects

The Senior Companion Program

The Senior Companion Program (SCP) is authorized by the Domestic Volunteer Service Act of 1973, as amended (Public Law 93-113, Title II, Part C, 42 U.S.C. 5013) and provides opportunities for income eligible individuals 60 years of age and over to serve adults with special needs. The SCP was launched in 1974 with its first 11 projects. Today there are over 17,000 Senior Companions serving 55,000 frail adults annually in 218 local SCP projects. These Senior Companions provide high quality and reliable personal support to adults, primarily the frail elderly, experiencing difficulties with activities of daily living, allowing them to live independently in their own homes for as long as possible. The SCP focuses on those with moderate physical, mental, or emotional impairments who are without adequate family support and who in the absence of non-medical support services would be at risk of institutionalization. Senior Companions also assist clients in patient discharge programs at acute care, mental health, and long-term care facilities to make the transition to living in less restrictive community settings. Some Senior Companions provide short-term respite for primary caregivers of frail adults in times of special need. Senior Companions have also helped their clients participate in emergency response drills, supplied information about crime prevention, and accompanied them to meetings where safety, health, and disaster response concerns are addressed.

Purpose

The purpose of this funding is to start new Senior Companion projects in geographic locations currently unserved by this program.

In addition, the Corporation encourages applicants for these grants to include, where appropriate, activities for Senior Companions that help support homeland security. The Corporation defines homeland security to include activities that support public safety, public health, and disaster preparedness and relief. For example, applicants for a Senior Companion project may propose activities that engage Senior Companions in:

• Providing clients with information and education related to the community's public safety, public health, and disaster preparedness and disaster mitigation plans and activities.

• Assisting their clients to participate in emergency response drills.

• Supplying clients with information on crime avoidance.

• Identifying potential safety, health, or emergency preparedness problems in their clients' homes, institutional environments, or neighborhoods and bringing these to the attention of professional case workers or other appropriate agencies.

• Providing transportation and/or escorting clients for medical appointments, immunizations, errands, etc.

• Providing respite to families of caregivers by caring for an adult with special needs and permitting the primary caregiver to attend meetings, volunteer, or simply become informed about local homeland security measures.

• Participating as a link between clients and community activities to prevent bias-related disorder or violence.

• Assisting crime victims who are frail or suffer from physical, mental, or emotional disabilities, where Senior Companions give support and assistance, including special referrals, as victims recover from trauma of crime and related losses.

• Assisting adults who are discharged from residential health care facilities, especially acute care facilities, who can be helped to resume a greater degree of independent living.

The above are examples only. Local communities will determine the best strategies for integrating Senior Companions into homeland security efforts, consistent with the purpose of the program. Applicants are encouraged to be creative about how Senior Companions can be part of a community or statewide effort to support homeland security. For example, SCP projects can establish relationships with local Citizens Corps Councils being supported at the state level by Governors and coordinated at the federal level by the Federal Emergency Management Agency (FEMA). For further information on these councils, visit www.citizenscorps.gov. Where Citizen Corps Councils have not yet been created, projects might be able to collaborate with local organizations that will make up the Citizen's Corps Council, such as Neighborhood Watches, emergency response programs, police volunteer programs, etc.

Eligible Applicants

Public agencies (including state and local agencies and other units of government), non-profit organizations, institutions of higher education and Indian Tribes are eligible to apply. Sponsors of Senior Companion projects that receive no funds from the Corporation, other than funding for Programs of National Significance (PNS), are eligible to apply. Current sponsors of Senior Companion projects funded by the Corporation are not eligible to apply for funding of a new Senior Companion project.

An organization described in section 501(c)(4) of the Internal Revenue Code of 1986, (26 U.S.C. 501(c)(4)) that engages in lobbying activities is not eligible to apply, serve as a host site for volunteers, or act in any type of supervisory role in the program.

Number and Amount of Awards

The Corporation intends to fund three Senior Companion projects in approved service areas that do not currently have a local project of the Senior Companion Program. The average amount of awards will be approximately $211,825.

Applicable Regulations

Regulations governing the SCP are located in 45 CFR part 2551. These will be provided as part of the application materials.

Foster Grandparent Projects

The Foster Grandparent Program

The Foster Grandparent Program (FGP) is authorized by the Domestic Volunteer Service Act of 1973, as amended (P.L. 93-113, Title II, Part B, 42 U.S.C. 5011 and provides opportunities for income eligible individuals 60 years of age and over to serve children and youth with special or exceptional needs on a person to person basis. The Foster Grandparent Program provides communities with valuable service by empowering older adults to contribute to their communities through volunteer service, enhance the lives of the volunteers and those whom they serve. The program began in 1965 as a national demonstration designed to show how low-income persons age 60 and over have the maturity and experience to establish a personal relationship with children having either special or exceptional needs. Today there are 34,000 Foster Grandparents providing care and attention every day to more than 220,000 qualified children and youth annually in 339 local FGP projects. Foster Grandparents volunteer in schools, hospitals, drug treatment centers, correctional institutions, and Head Start and day care centers. They offer emotional support to children who have been abused and neglected, mentor troubled teeagers and young mothers, care for premature infants and children with physical disabilities or servere illnesses, including AIDS. In the aftermath of the September 11 tragedy, many Foster Grandparents were important sources of reassurance to the children in their care. The special relationship and high level of personal care provided by Foster Grandparents helps young people grow, gain confidence, and become more productive members of society.

Purpose

The purpose of this funding is to start new Foster Grandparent projects in geographic locations currently unserved by this program.

In addition, the Corporation encourages applicants for these grants to include, where appropriate, activities for Foster Grandparents that help support homeland security. The Corporation defines homeland security to include activities that support public safety, public health, and disaster preparedness and relief. For example, applicants for a Foster Grandparent project may propose activities that engage Foster Grandparents in:

• Providing children with age-appropriate information and education related to the community's public safety, public health, and disaster preparedness and disaster mitigation plans and activities.

• Assisting children to participate in emergency response drills.

• Supplying children with information on crime avoidance.

• Identifying potential safety, health, or emergency preparedness problems in institutional environments, or neighborhoods and bringing these to the attention of professional caseworkers or other appropriate agencies.

• Providing temporary respite to families of caregivers by caring for disabled or chronically ill children living at home, thereby permitting the primary caregiver to attend meetings, volunteer, or simply become informed about local homeland security measures.

• Participating as a link between children and community activities to prevent bias-related disorder or violence.

• Assisting children who are discharged from residential health care facilities, especially acute care facilities, who can be helped to resume a greater degree of independent living.

The above are examples only. Local communities will determine the best strategies for integrating Foster Grandparents into homeland security efforts, consistent with the purpose of the program. Applicants are encouraged to be creative about how Foster Grandparents can be part of a community or statewide effort to support homeland security. For example, FGP projects can establish relationships with local Citizens Corps Councils being supported at the state level by Governors and coordinated at the federal level by the Federal Emergency Management Agency (FEMA). For further information on these councils, visit www.citizenscorps.gov. Where Citizen Corps Councils have not yet been created, projects might be able to collaborate with local organizations that will make up the Citizen's Corps Council, such as Neighborhood Watches, emergency response programs, police volunteer programs, etc.

Eligible Applicants

Public agencies (including state and local agencies and other units of government), non-profit organizations, institutions of higher education and Indian Tribes are eligible to apply. Sponsors of Foster Grandparent projects that receive no funds from the Corporation, other than funding for Programs of National Significance (PNS), are eligible to apply. Current sponsors of Foster Grandparent projects funded by the Corporation are not eligible to apply for funding of a new Foster Grandparent project.

An organization described in section 501(c)(4) of the Internal Revenue Code of 1986, (26 U.S.C. 501(c)(4)) that engages in lobbying activities is not eligible to apply, serve as a host site for volunteers, or act in any type of supervisory role in the program.

Number and Amount of Awards

The Corporation intends to fund three Foster Grandparent projects in approved service areas that do not currently have a local project of the Foster Grandparent Program. The average amount of awards will be approximately $192,265.

Applicable Regulations

Regulations governing the FGP are located in 45 CFR part 2553. These will be provided as part of the application materials.

Dated: March 20, 2002.
Teresa Scannell,
Director, National Senior Service Corps.

[FR Doc. 02-7112 Filed 3-22-02; 8:45 am]

BILLING CODE 6050-$$-P